DEPARTMENT OF ENERGY

[Case No. RF-008]

Energy Conservation Program for Consumer Products: Publication of the Petition for Waiver of Whirlpool Corporation From the Department of Energy Residential Refrigerator and Refrigerator-Freezer Test Procedures

AGENCY: Office of Energy Efficiency and Renewable Energy, Department of Energy.

ACTION: Notice of Petition for Waiver and request for public comments.

SUMMARY: This notice announces receipt of and publishes Whirlpool Corporation's (Whirlpool's) Petition for Waiver (hereafter, “Petition”) from parts of the Department of Energy (DOE) test procedure for determining the energy consumption of electric refrigerators and refrigerator-freezers. The waiver request pertains to Whirlpool's specified French door bottom-mounted residential refrigerators and refrigerator-freezers, a product line that utilizes a control logic that changes the wattage of the anti-sweat heaters based upon the ambient relative humidity conditions in order to prevent condensation. The existing test procedure does not take humidity or adaptive control technology into account. Therefore, Whirlpool has suggested an alternate test procedure that takes adaptive control technology into account when measuring energy consumption. DOE is soliciting comments, data, and information concerning Whirlpool's Petition and the suggested alternate test procedure.

DATES: DOE will accept comments, data, and information with respect to Whirlpool's Petition until, but no later than August 11, 2008.

ADDRESSES: You may submit comments, identified by case number [RF-008], by any of the following methods:

• Federal eRulemaking Portal: http://www.regulations.gov. Follow the instructions for submitting comments.

• E-mail: Michael.Raymond@ee.doe.gov. Include either the case number [RF-008] and/or “Whirlpool Petition” in the subject line of the message.

• Mail: Ms. Brenda Edwards, U.S. Department of Energy, Building Technologies Program, Mailstop EE-2J, Petition for Waiver Case No. RF-008, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., Suite 600, Washington, DC 20024. Please submit one signed original paper copy.

Instructions: All submissions received must include the agency name and case number for this proceeding. Submit electronic comments in WordPerfect, Microsoft Word, Portable Document Format (PDF), or text (American Standard Code for Information Exchange (ASCII)) file format. Avoid the use of special characters or any form of encryption. Wherever possible, include the electronic signature of the author. Absent an electronic signature, comments submitted electronically must be followed and authenticated by submitting the signed original paper document. DOE does not accept telefacsimiles (faxes).

Pursuant to section 430.27(b)(1)(iv) of 10 CFR part 430, any person submitting written comments must also send a copy of the comments to the petitioner. The contact information for the petitioner is: Mr. Steven Church, Project Engineer, Whirlpool Corporation, 5401 U.S. Highway North, Evansville, IN 47727. Telephone: (812) 426-4659. E-mail: steven_c_church@whirlpool.com.

Under 10 CFR 1004.11, any person submitting information that he or she believes to be confidential and exempt by law from public disclosure should submit two copies: One copy of the document including all the information believed to be confidential, and one copy of the document with the information believed to be confidential deleted. DOE will make its own determination about the confidential status of the information and treat it according to its determination.

Docket: For access to the docket to review the documents relevant to this matter, you may visit the U.S. Department of Energy, 950 L'Enfant Plaza, SW., (Resource Room of the Building Technologies Program), Washington, DC 20024, (202) 586-9127, between 9 a.m. and 4 p.m., Monday through Friday, except Federal holidays. Please call Ms. Brenda Edwards at (202) 586-2945 for additional information regarding visiting the Resource Room. Please note that the DOE's Freedom of Information Reading Room (formerly Room 1E-190 in the Forrestal Building) is no longer housing rulemaking materials.

FOR FURTHER INFORMATION CONTACT: Dr. Michael G. Raymond, U.S. Department of Energy, Building Technologies Program, Mailstop EE-2J, 1000 Independence Avenue, SW., Washington, DC 20585-0121, (202) 586-9611. E-mail: Michael.Raymond@ee.doe.gov.

Ms. Francine Pinto or Mr. Eric Stas, U.S. Department of Energy, Office of the General Counsel, Mailstop GC-72, 1000 Independence Avenue, SW., Washington, DC 20585-0103. Telephone: (202) 586-9507. E-mail: Francine.Pinto@hq.doe.gov or Eric.Stas@hq.doe.gov.

SUPPLEMENTARY INFORMATION:

I. Background and Authority

II. Petition for Waiver

III. Alternate Test Procedure

IV. Summary and Request for Comments

I. Background and Authority

Title III of the Energy Policy and Conservation Act (“EPCA”) sets forth a variety of provisions concerning energy efficiency. Part A ¹ of Title III provides for the “Energy Conservation Program for Consumer Products Other Than Automobiles.” (42 U.S.C. 6291-6309) Part A includes definitions, test procedures, labeling provisions, energy conservation standards, and the authority to require information and reports from manufacturers. Further, Part A authorizes the Secretary of Energy to prescribe test procedures that are reasonably designed to produce results which measure energy efficiency, energy use, or estimated operating costs, and that are not unduly burdensome to conduct. (42 U.S.C. 6293(b)(3)) The test procedure for residential refrigerators and refrigerator-freezers is contained in 10 CFR part 430, subpart B, Appendix A1.

¹ This part was originally titled Part B; however, it was redesignated Part A after Part B was repealed by Pub. L. 109-58.

The regulations set forth in 10 CFR 430.27 contain provisions that enable a person to seek a waiver from the test procedure requirements for covered consumer products. A waiver will be granted by the Assistant Secretary for Energy Efficiency and Renewable Energy (the Assistant Secretary) if it is determined that the basic model for which the Petition for Waiver was submitted contains one or more design characteristics that prevents testing of the basic model according to the prescribed test procedures, or if the prescribed test procedures may evaluate the basic model in a manner so unrepresentative of its true energy consumption characteristics as to provide materially inaccurate comparative data. 10 CFR part 430.27(a)(1). Petitioners must include in their petition any alternate test procedures known to evaluate the basic model in a manner representative of its energy consumption. 10 CFR 430.27(b)(1)(iii). The Assistant Secretary may grant the waiver subject to conditions, including adherence to alternate test procedures. 10 CFR 430.27(l). In general, waivers remain in effect until the effective date of a final rule which prescribes amended test procedures appropriate to the model series manufactured by the petitioner, thereby eliminating any need for the continuation of the waiver. 10 CFR part 430.27(m).

II. Petition for Waiver

On January 8, 2008, Whirlpool filed a Petition for Waiver from the test procedure applicable to residential electric refrigerators and refrigerator-freezers set forth in 10 CFR part 430, subpart B, Appendix A1.² Whirlpool is designing new refrigerators and refrigerator-freezers that contain variable anti-sweat heater controls that detect a broad range of temperature and humidity conditions, and respond by activating adaptive heaters, as needed, to evaporate excess moisture. According to the petitioner, Whirlpool's technology is similar to that used by General Electric Company (GE) for its refrigerator-freezers which were the subject of a Petition for Waiver published April 17, 2007. 72 FR 19189. Whirlpool seeks a waiver from the existing DOE test procedure applicable to refrigerators and refrigerator-freezers under 10 CFR part 430 because it takes neither ambient humidity nor adaptive technology into account. Therefore, Whirlpool stated that the test procedure does not accurately measure the energy consumption of Whirlpool's new refrigerators and refrigerator-freezers that feature variable anti-sweat heater controls and adaptive heaters. Consequently, Whirlpool has submitted to DOE for approval an alternate test procedure that would allow it to correctly calculate the energy consumption of this new product line. Whirlpool's alternate test procedure is essentially the same as that prescribed for GE refrigerators and refrigerator-freezers that are equipped with the same type of technology. The alternate test procedure applicable to the GE products simulates the energy used by the adaptive heaters in a typical consumer household, as explained in the Decision and Order which DOE published in the Federal Register on February 27, 2008. 73 FR 10425. As DOE has stated in the past, it is in the public interest to have similar products tested and rated for energy consumption on a comparable basis.

² Whirlpool submitted a modified petition on April 30, 2008, which was amended solely to set forth the specific models for which the company is seeking a waiver. DOE is publishing Whirlpool's Petition for Waiver, as amended, for public comment.

III. Alternate Test Procedure

When test procedures for refrigerators and refrigerator-freezers under 10 CFR part 430 were first developed, simple mechanical defrost timers were the norm. Today, Whirlpool's new line of refrigerators and refrigerator-freezers contains sensors that detect ambient humidity and interact with controls that vary the effective wattage of anti-sweat heaters to evaporate excess moisture. The existing DOE test procedure cannot be used to calculate the energy consumption of these features. The variable anti-sweat heater contribution to the refrigerator's energy consumption is entirely dependent on the ambient humidity of the test chamber, which the DOE test procedure does not specify. The energy consumption of the anti-sweat heaters will be modeled and added to the energy consumption measured with the anti-sweat heaters disabled. The anti-sweat contribution to the product's total energy consumption will be calculated by the same methodology that was set forth in the GE Petition. For units with an energy saver switch, the energy test results with and without the added heater contribution would be averaged to produce the final energy number for the product. For those units that do not include an energy saver switch, the final energy number would be equal to the test result of the heater-disabled test plus the added heater contribution. The objective of this approach is to simulate the average energy used by the adaptive anti-sweat heaters as activated in refrigerators and refrigerator-freezers of typical consumer households across the United States.

To determine the conditions in a typical consumer household, GE compiled historical data on the monthly average outdoor temperatures and humidities for the top 50 metropolitan areas of the U.S. over approximately the last 30 years. In light of the similarity of technologies at issue, Whirlpool is using the same data compiled by GE for its determination of the anti-sweat heater energy use. Like GE, Whirlpool includes in its test procedure a “system-loss factor” to calculate system losses attributed to operating anti-sweat heaters, controls, and related components.

IV. Summary and Request for Comments

Through today's notice, DOE announces receipt of Whirlpool's Petition for Waiver from certain parts of the test procedure applicable to Whirlpool's new line of refrigerators and refrigerator-freezers with variable anti-sweat heater controls and adaptive heaters. DOE is publishing Whirlpool's Petition for Waiver in its entirety pursuant to 10 CFR 430.27(b)(1)(iv). The Petition contains no confidential information. The Petition includes a suggested alternate test procedure and calculation methodology to determine the energy consumption of Whirlpool's specified refrigerators and refrigerator-freezers with adaptive anti-sweat heaters. DOE is interested in receiving comments from interested parties on all aspects of the Petition, including the suggested alternate test procedure and calculation methodology. Pursuant to 10 CFR 430.27(b)(1)(iv), any person submitting written comments to DOE must also send a copy of such comments to the petitioner, whose contact information is included in the ADDRESSES section above.

Issued in Washington, DC, on June 23, 2008.
Alexander A. Karsner,
Assistant Secretary, Energy Efficiency and Renewable Energy.

Submitted by:

Steven Church, Whirlpool Corporation, 5401 U.S. Highway North, Evansville, IN 47727. 812-426-4659.

Introduction

Whirlpool Corporation, a leading manufacturer and marketer of household appliances, in accordance with 10 CFR 430.27, files this Petition for Waiver in order to request exemption from certain parts of the test procedure endorsed by the U.S. Department of Energy for determining refrigerator-freezer energy consumption. Granting this waiver will allow Whirlpool to test its refrigerator-freezers utilizing the procedure described within this Petition.

Background

Whirlpool is upgrading its Bottom Mount refrigerator-freezer products in order to meet the newly revised requirements of the Energy Star program scheduled to be implemented in April 2008.

Whirlpool is seeking the Department's approval to use the proposed method so that it can be assured of properly calculating and labeling the energy consumption of its products. Such approval will also allow assurance that the new products will achieve the energy limits proposed under the Energy Star Program.

Recently, General Electric Corporation (“GE”) filed a Petition for Waiver to establish a new method to calculate the energy consumption of a refrigerator-freezer when such a product contains adaptive anti-condensation heaters. In order to meet the more stringent Energy Star standards, Whirlpool has developed its own adaptive anti-condensation system which utilizes a humidity sensor to modify the power used by the anti-condensation heaters. In support of GE's position, Whirlpool could have designed the system so that the anti-condensation heaters showed no impact during energy testing. However, like GE, Whirlpool is following the regulation's intent to more accurately represent the energy consumed by the product when used in the home. Accordingly, Whirlpool is filing this Petition for Waiver to modify the portions of the regulation that are inappropriate.

The Department's regulations provide that the Assistant Secretary will grant a Petition upon: “Determination that the basic model for which the waiver was requested contains a design characteristic which either prevents testing of the basic model according to the prescribed test procedures, or the prescribed test procedures may evaluate the basic model in a manner so unrepresentative of its true energy consumption characteristics as to provide materially inaccurate comparative data.” ¹

¹ 10 CFR part 430.27(l).

Whirlpool requests that the Assistant Secretary grant this Petition based on the second point. Because the current test procedure does not fully specify test room conditions, i.e. the ambient relative humidity is not controlled; the adaptive nature of the anti-condensation heaters may cause the energy consumption of the unit to be significantly overstated. To test the units assuming that they do not adapt will misrepresent the energy used by the appliance when installed in a consumer's home.

The Refrigerator Energy Test Procedure

The test procedure for calculating energy consumption ² specifies that the test chamber be maintained at 90 °F. Although not typical of conditions in most consumer's homes, this higher ambient simulates the heat load of a refrigerator in a 70 °F ambient with typical usage by the consumer.

² 10 CFR part 430, subpart B, App. A1.

However, the test procedure does not address what humidity level to maintain in the test room when collecting data. Condensation occurs on refrigerators when specific areas on the unit are below the local dew point. Higher relative humidity levels result in an increase of the dew point. The appliance industry currently utilizes anti-condensation loops and heaters that increase the temperature of local areas above the dew point to prevent condensation. Typical applications employ a heater that utilizes a pre-determined amount of power without regard to humidity and the likelihood of condensation occurring on the unit. Such an application will require more energy to prevent condensation than one that can adapt to changing ambient conditions.

Whirlpool's Proposed Modification

Whirlpool now seeks to change how it tests its upgraded models which include, but not restricted to, all French Door Bottom Mount Refrigerators whether or not they have exterior ice dispensing. The following bottom mounted freezer models with French doors are representative of similar models that will utilize this technology. These particular models do not use this technology at this time but as they are upgraded to add new features, or reach new energy levels this technology will be included.

The actual model numbers may vary but the technology will be used for the control of heaters to prevent the formation of condensation on external surface on French door bottom mounted freezer models.

MFI2569VE* | AFI2538AE* | KBFC42FT*0*
JFI2089A** | JF42REF**B0* | KBFO42FT*0*
JFI2589A** | JF42PPF**B0* | MBF1956KE*
MFI2266AE* | JF42SEF**B0* | KBFS20ET*
MFI2067AE* | JF42CXF**B0* | KBFA20ER*
MFI2568AE* | KBFC42FS*0* | MBF2256KE*
596.7753* | KBFO42FS*0* | MBF1956KE*

Whirlpool proposes to run the energy consumption test with the anti-condensation heaters disabled. A contribution will be added to this result, which is related to the amount of energy used by the anti-condensation heaters when they are active. This contribution will be calculated by the same method that was proposed by GE in their Petition. For units with an energy saver switch, the energy test results with and without the added heater contribution will be averaged together to produce the final energy number for the product. For those units that do not include an energy saver switch, the final energy number will be equal to the test result of the heater disabled test plus the added heater contribution. The objective of the proposed approach is to simulate the average energy used by the adaptive anti-condensation heaters as activated in typical consumer households across the United States.

In formulating their Petition, GE completed research in order to determine the average humidity level experienced across the United States. The result of this research was that GE was able to determine the probability that any U.S. household would experience certain humidity conditions during any month of the year. This data was consolidated into 10 bands each representing a 10% range of relative humidity. In submitting this Petition, Whirlpool is confirming the validity of using such bands to represent the average humidity experienced across the United States and will adopt the same population weighting as proposed by GE. The bands proposed by GE are as follows:

Percent RH | Probability (percent) | Constant designation
1. 0-10 | 3.4 | A1
2. 10-20 | 21.1 | A2
3. 20-30 | 20.4 | A3
4. 30-40 | 16.6 | A4
5. 40-50 | 12.6 | A5
6. 50-60 | 11.9 | A6
7. 60-70 | 6.9 | A7
8. 70-80 | 4.7 | A8
9. 80-90 | 0.8 | A9
10. 90-100 | 1.5 | A10

When using external anti-condensation heaters, Whirlpool's experience has been the increase in total energy used by the system is greater than the power used by the heaters alone. This increased energy can be related to energy consumed by, but not limited to, increased run time of the compressor and fan to remove the extra heat leak from the heaters, wire harnesses, and the operation of electronic controls. Based upon Whirlpool's experience, an energy increase of 30% is required to compensate for the extra heat leak. When calculating the contribution due to the heaters, Whirlpool recommends multiplying the power directly consumed by the heaters by 1.3 to calculate the energy used by the system as a whole.

The Heater Contribution that Whirlpool proposes will be added to the result of the energy-consumption test results with the heaters disabled. This result will be used in the energy calculations as the results for when the switch is in the “heater on” position. This number is calculated as follows:

Heater Contribution = (Anti-condensation Heater Power × 1.3) × (24 hours/1 day) × (1 kW/1000 W).

To determine the average power used by the anti-condensation heaters, the constant associated with each band is multiplied by the heater wattage used by a refrigerator operating at the average humidity level of each band and standard refrigerator conditions (72 °F ambient, fresh food average of 45° and freezer average of 5°). The total of the products from each humidity band will represent the average power used by the anti-condensation heater in the equation above. This may be represented as:

Anti-condensation Heater Power = A1 * (Heater Watts at 5% RH) + A2 * (Heater Watts at 15% RH) + A3 * (Heater Watts at 25% RH) + A4 * (Heater Watts at 35% RH) + A5 * (Heater Watts at 45% RH) + A6 * (Heater Watts at 55% RH) + A7 * (Heater Watts at 65% RH) + A8 * (Heater Watts at 75% RH) + A9 * (Heater Watts at 85% RH) + A10 * (Heater Watts at 95% RH).

As explained above, bands A1-A10 were selected as representative of humidity conditions of all U.S. households. Utilizing such weighed bands will allow the calculation of the national average energy consumption for each product.

Based on the above, Whirlpool proposes to test its upgraded models as if the test procedure were modified to calculate the energy of the unit by testing the unit with the anti-condensation disabled plus the Anti-Sweat Heater Power multiplied by 1.3 to determine the energy of the unit when the heaters are active.

Conclusion

Whirlpool urges the Assistant Secretary to grant this Petition and allow Whirlpool to test its upgraded French Door Bottom Mount refrigerator models as described above. We believe that granting our request will encourage manufacturers to introduce new technologies into their products without having to worry about any adverse impact to energy consumption.

Respectfully submitted,

Steven Church

Affected Persons

Primary affected persons in the refrigerator-freezer category include BSH Home Appliances Corp. (Bosch-Siemens Hausgerate GmbH), Electrolux Home Products, Equator, Fisher & Paykel Appliances, Inc., General Electric Corporation, Gorenje USA, Haier America Trading, L.L.C., Heartland Appliances, Inc., Kelon Electrical Holdings Co., Ltd., Liebherr Hausgerate, LG Electronics USA Inc., Northland Corporation, Samsung Electronics America, Inc., Sanyo Fisher Company, Sears, Sub-Zero Freezer Company, U-Line, and Viking Range. The Association of Home Appliance Manufacturers is also generally interested in energy efficiency requirements for appliances. Consumers' Union, ACEEE, NRDC, [and] Alliance to Save Energy are not manufacturers but have an interest in this matter. Whirlpool will notify all these organizations as required by the Department's rules and provide them with a non-confidential version of this Petition.

[FR Doc. E8-15748 Filed 7-09-08; 8:45 am]

BILLING CODE 6450-01-P